DEPARTMENT OF HOUSING AND URBAN DEVELOPMENT

[Docket No. FR-7056-N-03]

60-Day Notice of Proposed Information Collection: Multifamily Housing Mortgage and Housing Assistance Restructuring Program (Mark-To-Market); OMB Control No.: 2502-0533

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 26, 2022.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Multifamily Housing Mortgage and Housing Assistance Restructuring Program (Mark-to-Market).

OMB Approval Number: 2502-0533.

Type of Request: Extension of currently approved collection.

Form Numbers: HUD-9624, HUD-9625, OPG 3.1, OPG 3.2, OPG 3.3, OPG 3.4, OPG 4.1, OPG 4.2, OPG 4.3, OPG 4.4, OPG 4.7, OPG 4.8, OPG 4.10, OPG 4.11, OPG 4.12, OPG 5.4, OPG 5.5, OPG 6.5, OPG 7.4, OPG 7.6, OPG 7.8, OPG 7.11, OPG 7.12, OPG 7.13, OPG 7.14, OPG 7.16, OPG 7.21, OPG 7.22, OPG 7.23, OPG 7.25, OPG 9.10, OPG 9.11, OPG 11.1. In addition, the Post Mark-to-Market documents pending approval: (1) Accommodation Agreement Debt Assignment-TPA Post Restructuring, (2) Assumption Modification of Use Agreement, (3) Attachment 1: Assumption Modification Use Agreement—Term Extension—No M2M Debt and Not QNP, (4) Attachment 2: Subordinate Agreement—New Financing to M2M, (5) Attachment 3: Assuming of Use Agreement No Term Extension, (6) Attachment 4: Attachment 4—Modification of Use Agreement (Term Extension—Not QNP), (7) Attachment 5: Subordinate Agreement-New and Existing Financing to M2M Use Agreement, and (8) Release, Assumption and Modification of Accommodation Agreement.

Description of the need for the information and proposed use: The Mark-to-Market Program is authorized under the Multifamily Assisted Housing Reform and Affordability Act of 1997, as modified and extended from time to time, including by the Market-to-Market Extension Act of 2001. The information collection is required and will be used to determine the eligibility of FHA-insured or formerly insured multifamily properties for participation in the Mark-to-Market Program and the terms on which such participation should occur as well as to process eligible properties from acceptance into the program through closing of the mortgage restructure in accordance with program guidelines. The result of participation in the program is the refinancing and restructure of the property's FHA-insured mortgage and, generally the reduction of Section 8 rent payments and establishment of adequately funded accounts to fund required repair and rehabilitation of the property.

Respondents: Contractors and Tenants.

Estimated Number of Respondents: 60.

Estimated Number of Responses: 1,346.

Frequency of Response: On occasion.

Average Hours per Response: 32.

Total Estimated Burdens: 1,912.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Janet M. Golrick,
Acting, Chief of Staff for the Office of Housing—Federal Housing Administration.

[FR Doc. 2022-03988 Filed 2-24-22; 8:45 am]

BILLING CODE 4210-67-P